DEPARTMENT OF TRANSPORTATION

Federal Aviation Administration

14 CFR Part 71

[Docket No. FAA-2004-16861; Airspace Docket No. 04-ASO-1]

Amendment of Class D and E4 Airspace; Homestead, FL

AGENCY: Federal Aviation Administration (FAA), DOT.

ACTION: Final rule.

SUMMARY: This action amends Class D and E4 airspace at Homestead, FL. The name of the airport has changed from Dade County—Homestead Regional Airport to Homestead Air Reserve Base (ARB). As a result of an evaluation, it has been determined a modification should be made to the Homestead, FL, Class D and E4 airspace areas to contain the Tactical Air Navigation (TACAN) or Instrument Landing System (ILS) Runway (RWY) 5, Standard Instrument Approach Procedure (SIAP) to the Homestead ARB. Additional surface area airspace is needed to contain the SIAP.

EFFECTIVE DATE: 0901 UTC, June 10, 2004.

FOR FURTHER INFORMATION CONTACT: Walter R. Cochran, Manager, Airspace Branch, Air Traffic Division, Federal Aviation Administration, P.O. Box 20636, Atlanta, Georgia 30320; telephone (404) 305-5627.

SUPPLEMENTARY INFORMATION:

History

On February 19, 2004, the FAA proposed to amend part 71 of the Federal Aviation Regulations (14 CFR part 71) by amending Class D and E4 airspace at Homestead ARB, FL (69 FR 7713). This action provides adequate Class D and E4 airspace for IFR operations at Homestead ARB, FL. Designations for Class D airspace areas extending upward from the surface of the earth and Class E airspace designations for airspace designated as surface areas are published in Paragraphs 5000 and 6004 respectively, of FAA Order 7400.9L, dated September 2, 2003, and effective September 16, 2003, which is incorporated by reference in 14 CFR part 71.1. The Class D and E designations listed in this document will be published subsequently in the Order.

Interested parties were invited to participate in this rulemaking proceeding by submitting written comments on the proposal to the FAA. No comments objecting to the proposal were received.

The Rule

This amendment to part 71 of the Federal Aviation Regulations (14 CFR part 71) amends Class D and E4 airspace at Homestead ARB, FL.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration proposes to amend 14 CFR Part 71 as follows:

PART 71—DESIGNATION OF CLASS A, CLASS B, CLASS C, CLASS D, AND CLASS E AIRSPACE AREAS; AIRWAYS; ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9L, Airspace Designations and Reporting Points, dated September 2, 2003, and effective September 16, 2003, is amended as follows:

Paragraph 5000 Class D Airspace

* * * * *

ASO FL D Homestead, FL [Revised]

Homestead ARB, FL

(Lat. 25°29′18″ N., long. 80°23′01″ W.)

That airspace extending upward from the surface to and including 2,500 feet MSL within a 5.5-mile radius of Homestead ARB.

* * * * *

Paragraph 6004 Class E Airspace Areas Designated as an Extension to a Class D or Class E Surface Area

* * * * *

ASO FL E4 Homestead, FL [Revised]

Homestead ARB, FL

(Lat. 25°29′18″ N., long. 80°23′01″ W.)

That airspace extending upward from the surface within 1.5 miles each side of the 50° bearing and the 230° bearing from Homestead ARB extending from the 5.5-mile radius to 7 miles northeast and southwest of the airport.

* * * * *

Issued in College Park, Georgia on March 31, 2004.
Jeffrey U. Vincent,
Acting Manager, Air Traffic Division, Southern Region.

[FR Doc. 04-8357 Filed 4-12-04; 8:45 am]

BILLING CODE 4910-13-M